DEPARTMENT OF AGRICULTURE

Forest Service

Bridger-Teton National Forest; Big Piney Ranger District; Wyoming; Environmental Impact Statement for the Sherman Cattle & Horse Allotment Grazing Authorization and Management Project

AGENCY: Forest Service, USDA.

ACTION: Notice of intent to prepare an environmental impact statement.

SUMMARY: The Department of Agriculture, Forest Service, will prepare an environmental impact statement to analyze the effects of domestic livestock grazing in the Sherman Cattle & Horse Allotment. This action was originally listed as a proposal (to be analyzed under an environmental assessment) on the Bridger-Teton National Forest Schedule of Proposed Actions on January 1, 2010. However, during development of the environmental assessment, it was determined that analysis and disclosure under an environmental impact statement would be more appropriate. The analysis contained in the environmental impact statement will be used by the Responsible Official to decide whether livestock grazing can be authorized within the allotment, and if so, under what conditions. The Sherman Cattle and Horse Allotment is located in western Wyoming, about 35 miles northwest of Big Piney, Wyoming, and is situated on the east side of the northern end of the Wyoming Range. The entire 17,370 acre allotment lies within Sublette County and within the boundaries of the Big Piney Ranger District.

DATES: Comments concerning the scope of the analysis must be received by November 30, 2011. All comments that were received during the previous analysis period will be considered in the current analysis. The draft environmental impact statement is expected in April of 2012 and the final environmental impact statement is expected in August of 2012.

ADDRESSES: Send written comments to District Ranger, Big Piney Ranger District, P.O. Box 218, Big Piney, Wyoming 83113. Comments may also be sent via e-mail to mailroom_r4_bridger_teton@fs.fed.us (on the subject line put “Sherman Grazing Allotment”), or via facsimile to (307) 276-5203.

FOR FURTHER INFORMATION CONTACT: Chad Hayward, Big Piney Ranger District, (307) 276-5817, chayward@fs.fed.us, or Anita DeLong, Big Piney Ranger District, (307) 413-9650, akdelong@fs.fed.us, and see ADDRESSES above. Individuals who use telecommunication devices for the deaf (TDD) may call the Federal Information Relay Service (FIRS) at 1-800-877-8339 between 8 a.m. and 8 p.m., Eastern Time, Monday through Friday.

SUPPLEMENTARY INFORMATION:

Purpose and Need for Action

The need for this analysis is to determine if continued authorization of livestock grazing on the Sherman C&H Allotment at current levels is appropriate, and to determine if current livestock management practices are sufficient for achieving and maintaining compliance with the 1990 Bridger-Teton Land and Resource Management Plan (Forest Plan) direction and Forest Service grazing management policies, and other applicable laws and regulations. The purpose of the proposal is to manage livestock grazing in a manner that allows the health of the land to be sustained and that meets the goals and objectives of the Forest Plan.

National Forest System lands provide an important source of livestock forage during portions of the year. Forest Plans provide for allocation of livestock grazing to meet Forest Plan objectives. Reauthorization is needed on these allotments because:

• Where consistent with other multiple use goals and objectives there is Congressional intent to allow grazing on suitable lands (Multiple Use-Sustained Yield Act of 1960, Forest and Rangeland Renewable Resource Planning Act of 1974, Federal Land Policy and Management Act of 1976, National Forest Management Act of 1976).

• The Sherman Cattle & Horse Allotment lies within the Management Area 24—Horse Creek—on the Bridger-Teton National Forest. The following Desired Future Conditions (DFCs) describe the land management direction intended to accomplish goals and objectives. Approximately eighty-six percent of the Sherman Cattle & Horse Allotment is located within an area designated by the Forest Plan as having a DFC of 1B (Substantial Commodity Resource Development with Moderate Accommodation of Other Resources). Management emphasis includes livestock production. Approximately nine percent of the project area is within the DFC 10 (Simultaneous Development of Resources, Opportunities for Human Experiences and Support for Big-game and a Wide Variety of Wildlife Species. Approximately five percent of the project area is within the DFC 12 (Backcountry Big-game Hunting, Dispersed Recreation, and Wildlife Security Areas).

• Federal regulation (36 CFR 222.2(c)) states that National Forest System lands would be allocated for livestock grazing and allotment management plans would be prepared consistent with forest plans.

Continued domestic livestock grazing must be consistent with the goals, objectives and guidelines of the Forest Plan. The allotment management plan needs to be revised to update and/or refine desired rangeland conditions and develop management strategies to meet them. This analysis complies with the schedule specified by the Rescission Act of 1995 (Pub. L. 104-19) to complete NEPA analyses on allotments where such analysis is needed to authorize permitted livestock grazing activity.

Proposed Action

The Proposed Action is to authorize continued livestock grazing on the Sherman Cattle & Horse Allotment consistent with goals, objectives, standards and guidelines, management prescriptions, and monitoring requirements specified in the Forest Plan, and in compliance with the Rescission Act of 1995. The Proposed Action is designed to (1) contribute towards Forest Plan objective 1.1(h) which states “provide forage for about 260,000 AUMs of livestock grazing annually”, and (2) achieve Goal 4.7 which states “[g]razing use of the National Forest sustains or improves overall range, soils, water, wildlife, and recreation values or experiences.” Project-specific allowable-use standards would be implemented and include more stringent forage utilization standards than outlined in the Forest Plan. The Proposed Action also includes a streambank alteration standard consistent with the Forest Plan. In addition, grizzly bear conservation measures would be implemented to (1) minimize grizzly bear/livestock conflicts and associated management actions, and (2) minimize food and other types of habituation and bear/human conflicts. Updated direction would be incorporated into the allotment management plan to guide livestock grazing management within the allotment. Livestock grazing management strategies in the Proposed Action were developed in accordance with the Code of Federal Regulations (CFR), 36 CFR 222.1(b)(2), which describes allotment management planning provisions.

Under the Proposed Action, a maximum livestock forage allocation of 2,332 AUM, or equivalent livestock numbers and season of use, would be permitted. Current permitted numbers are 858 cow/calf pairs with a season of use from July 6th to September 20th. These would be maintained under the Proposed Action. The allotment contains two pastures. Under the Proposed Action, the allotment would be grazed by livestock under a Deferred Rotation Grazing System. This rotation was required by the 1990 Allotment Management Plan and would continue to be implemented under the Proposed Action.

Responsible Official

District Ranger, Big Piney Ranger District, P.O. Box 218, Big Piney, Wyoming 83113.

Nature of Decision To Be Made

The District Ranger will (1) decide whether to authorize continued livestock grazing on the Sherman Cattle & Horse Allotment, and (2) decide, if livestock grazing is authorized, under what management strategies livestock grazing will be implemented.

Preliminary Issues

The following preliminary issues were identified by the public and the Forest Service in the previous environmental analysis process.

Issue 1—Effects of livestock grazing on riparian and aquatic function.

Issue 2—Effects of livestock grazing on Threatened, Endangered, Experimental, and Candidate Species, Forest Service Sensitive Species, Forest Plan Management Indicator Species and migratory birds.

Issue 3—Effects of livestock grazing on vegetation composition and ground cover.

Issue 4—Effects of livestock grazing on soil quality.

Scoping Process

This notice of intent continues the scoping process, which guides the development of the environmental impact statement. A scoping letter was mailed to those listed on the Big Piney Ranger District general mailing list. The mailing list included private landowners, term grazing permit holders, special interest groups, interested members of the public, and local, State, and Federal agencies. The letter described the purpose and need for action and the proposed action. Additionally, the letter solicited public participation in the process, specifically the submission of comments, concerns, and recommendations regarding management of the allotment. Term grazing permit holders, or their representatives, were contacted shortly after the project was initiated to solicit their input concerning management of the allotment.

All submitted comments, including those previously submitted, will be used to prepare the new draft environmental impact statement. News releases will be prepared to give the public general notice concerning the progress of this project analysis.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: October 25, 2011.
Eric J. Winthers,
Acting District Ranger.

[FR Doc. 2011-28056 Filed 10-28-11; 8:45 am]

BILLING CODE 3410-11-P